DEPARTMENT OF ENERGY

Federal Energy Regulatory Commission

Notice of Meeting

July 25, 2001.

The Commission will hold a meeting with the licensee and the North Carolina State Historic Preservation Officer for the Idols Hydroelectric Project, FERC No. 2585.

a. Date and Time of Meeting: August 14, 2001, 9:30 am.

b. Place: Clemmons, North Carolina.

c. FERC Contact: For directions contact James T. Griffin, (202) 219-2799; james.griffin@ferc.fed.us or Chuck Ahlrichs, Northbrook Carolina Hydro, (425) 557-3680.

d. Purpose of the Meeting: To discuss, with the licensee and the North Carolina State Historic Preservation Officer, compliance with Section 106 of the National Historic Preservation Act in the matter of the surrender of license of the Idols Hydroelectric Project, FERC No. 2585, a property eligible for inclusion in the National Register of Historic Places.

e. Proposed agenda: (1) Introductions, (2) Section 106 requirements, (3) The Idols Hydroelectric Project Historic District and its contributing elements, (4) Effects of License Surrender, (5) Preservation of the Historic District, (6) What shall we then do?

f. All local, state, and Federal agencies, Indian Tribes, and interested parties, are hereby invited to attend this meeting as participants.

Linwood A. Watson, Jr.,
Acting Secretary.

[FR Doc. 01-19002 Filed 7-30-01; 8:45 am]

BILLING CODE 6717-01-P